DEPARTMENT OF LABOR

Employment and Training Administration

Agency Information Collection Activities: Extension of a Currently Approved Information Collection With Non-Substantive Changes; Comment Request

ACTION: 60-day notice of information collection under review: Form ETA-750, Application for Alien Employment Certification; OMB Control No. 1205-0015.

SUMMARY: The Department of Labor, as part of its continuing effort to reduce paperwork and respondent burden, conducts a pre-clearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Employment and Training Administration is soliciting comments concerning Form ETA 750 Application for Alien Employment Certification. A copy of the proposed information collection request (ICR) can be obtained by contacting the office listed below in the addressee section of this notice or at this Web site: http://www.doleta.gov/OMBCN/OMBControlNumber.cfm.

DATES: Written comments must be submitted to the office listed in the addressee section below on or before September 10, 2007.

ADDRESSES: William L. Carlson, Administrator, Office of Foreign Labor Certification, U.S. Department of Labor, Room C4312, 200 Constitution Ave., NW., Washington, DC 20210; by phone at (202) 693-3010 (this is not a toll-free number); by fax at (202) 693-2768; or by e-mail at ETA.OFLC.Forms@dol.gov subject line: Form ETA 750.

SUPPLEMENTARY INFORMATION:

I. Background

The information collection is required by section 212(a)(5)(A), section 214(c) and section 218 of the Immigration and Nationality Act (INA) (8 U.S.C. 1182(a)(5)(A), 1184(c) and 1188). The INA mandates the Secretary of Labor to certify that any alien seeking to enter the United States for the purpose of performing skilled or unskilled labor is not adversely affecting wages and working conditions of U.S. workers similarly employed and that there are not sufficient U.S. workers able, willing, and qualified to perform such skilled or unskilled labor. Before any employer may request any skilled or unskilled alien labor, it must submit a request for certification to the Secretary of Labor containing the elements prescribed by the INA or meet one of the exceptions in the INA. Both the Department of Labor and the Department of Homeland Security have promulgated regulations to implement these sections of the INA. The relevant regulations are 20 CFR 655.1-4, 20 CFR 655.90-113, 20 CFR 655.200-215, 8 CFR 204.5(k)(4)(ii), and 8 CFR 214.2(h)(5) and (6).

II. Review Focus

The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

III. Current Actions

In order to meet its statutory responsibilities under the INA, the Department needs to extend an existing collection of information pertaining to employers seeking to import foreign labor. The form used to collect the information is utilized not only by the Department, but also by other federal agencies to meet the requirements of the INA. The Department uses the information collected to implement several of its nonimmigrant worker programs, including the H-2A and H-2B temporary work programs, and for both permanent and temporary programs for the employment of alien professional athletes. The Department of Homeland Security, U.S. Citizenship and Immigration Services, utilizes the form for its National Interest Waiver program for employment-sponsored immigration.

Type of Review: Extension.

Agency: Employment and Training Administration.

Title: Application for Alien Employment Certification.

OMB Number: 1205-0015.

Agency Number(s): Form ETA 750.

Recordkeeping: On occasion.

Affected Public: Individuals, businesses or other for-profits and not-for-profit institutions, and farms.

Total Respondents: 38,435.

Estimated Total Burden Hours: 56,145 hours annually to the respondents and 134,522 hours annually to the Federal government.

Total Burden Cost (capital/startup): 0.

Total Burden Cost (operating/maintaining): $1,403,625 annually to respondents and $4,307,833 annually to the Federal government.

Comments submitted in response to this comment request will be summarized and/or included in the request for Office of Management and Budget approval of the information collection request; they will also become a matter of public record.

Dated: June 29, 2007.
William L. Carlson,
Administrator, Office of Foreign Labor Certification.

[FR Doc. E7-13397 Filed 7-10-07; 8:45 am]

BILLING CODE 4510-FP-P